FEDERAL COMMUNICATIONS COMMISSION

[OMB 3060-0506, OMB 3060-0980, OMB 3060-1045; FR ID 292826]

Information Collections Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before July 7, 2025. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0506.

Title: FCC Form 2100, Schedule 302-FM—FM Station License Application.

Form Number: FCC Form 2100, Schedule 302-FM.

Type of Review: Extension of a currently approved collection.

Respondents: Business or other for-profit entities; Not-for-profit institutions.

Number of Respondents and Responses: 925 respondents; 925 responses.

Estimated Time per Response: 1-2 hours.

Frequency of Response: On occasion reporting requirement.

Total Annual Burden: 3,135 hours.

Total Annual Costs: $830,250.

Obligation To Respond: Required to obtain or retain benefits. The statutory authority for this collection of information is contained in Sections 154(i), 303 and 308 of the Communications Act of 1934, as amended.

Needs and Uses: FCC Form 2100, Schedule 302-FM—FM Station License Application (LMS FM Station License Application) is required to be filed by licensees and permittees of FM broadcast stations to request and to obtain a new or modified station license and/or to notify the Commission of certain changes in the licensed facilities of these stations. Data is used by FCC staff to confirm that the station is built to the terms specified in the outstanding construction permit and to ensure that any changes made to the station will not have any impact on other stations and the public. Data is extracted from the LMS FM Station License Application for inclusion in the subsequently issued license authorization to operate the FM station.

OMB Control Number: 3060-0980.

Title: Implementation of the Satellite Home Viewer Improvement Act of 1999: Local Broadcast Signal Carriage Issues and Retransmission Consent Issues, 47 CFR 76.66.

Form Number: Not applicable.

Type of Review: Extension of a currently approved collection.

Respondents: Business or other for-profit entities.

Number of Respondents and Responses: 3,410 respondents; 4,388 responses.

Estimated Time per Response: 0.5 hour to 5 hours.

Frequency of Response: Third party disclosure requirement; On occasion reporting requirement; Once every three years reporting requirement; Recordkeeping requirement.

Obligation To Respond: Required to obtain or retain benefits. The statutory authority for this collection is contained in 47 U.S.C. 325, 338, 339 and 340.

Total Annual Burden: 3,576 hours.

Total Annual Cost: $24,000.

Needs and Uses: Television broadcast stations and satellite carriers will use the information collected under this collection to determine what stations must be carried by satellite carriers. The Commission will use information collected in order to ensure compliance with its satellite television broadcast carriage rules.

OMB Control Number: 3060-1045.

Title: Section 76.1610, Change of Operational Information; FCC Form 324, Operator, Mail Address, and Operational Status Changes.

Form Number: FCC Form 324.

Type of Review: Extension of a currently approved collection.

Respondents: Business or other for-profit entities; not-for-profit institutions.

Number of Respondents: 325 respondents; 325 responses.

Estimated Time per Response: 0.5 hours.

Frequency of Response: On occasion reporting requirement.

Obligation To Respond: Required to obtain or retain benefits. The statutory authority for this collection of information is contained in 154(i), 303, 308, and 309 of the Communications Act of 1934, as amended.

Total Annual Burden: 163 hours.

Total Annual Cost: None.

Needs and Uses: The information collection requirements contained in 47 CFR 76.1610 require that operators shall inform the Commission on FCC Form 324 whenever there is a change of cable television system operator; change of legal name, change of the operator's mailing address or FCC Registration Number (FRN); or change in the operational status of a cable television system. Notification must be done within 30 days from the date the change occurs and must include the following information, as appropriate: (a) The legal name of the operator and whether the operator is an individual, private association, partnership, corporation, or government entity. See 47 CFR 76.5(cc). If the operator is a partnership, the legal name of the partner responsible for communications with the Commission shall be supplied; (b) The assumed name (if any) used for doing business in each community; (c) The physical address, including zip code, and email address, if applicable, to which all communications are to be directed; (d) The nature of the operational status change (e.g., operation terminated, merged with another system, inactive, deleted, etc.); (e) The names and FCC identifiers (e.g., CA 0001) of the system communities affected.

Federal Communications Commission.
Marlene Dortch,
Secretary.

[FR Doc. 2025-07890 Filed 5-5-25; 8:45 am]

BILLING CODE 6712-01-P